DEPARTMENT OF TRANSPORTATION

Federal Transit Administration

National Rural Transportation Assistance Program Request for Proposals (RFP)

AGENCY: Federal Transit Administration, DOT.

ACTION: Notice; request for proposals.

SUMMARY: This solicitation is for proposals from not-for-profit entities with rural transit and technical assistance expertise for a cooperative agreement to develop and implement a National Rural Transportation Assistance Program (RTAP). The entity or entities selected will manage a National technical assistance program that improves and enhances the coordination of Federal resources for rural transportation. The major goal of the National RTAP is to assist States and local communities in the expansion and provision of rural public transportation. The Federal Transit Administration (FTA) will award one or more five-year agreement(s), funded annually. Year one of the cooperative agreement(s) is for $1.212 million dollars as authorized in the Safe, Accountable, Flexible, and Efficient Transportation Equity Act—A Legacy for Users (SAFETEA-LU) and appropriated in FY2007. Funding for subsequent years will be based on annual appropriations, as well as annual performance reviews. However, years 2010 and 2011 are subject to the next reauthorization.

DATES: Proposals must be submitted electronically by April 11, 2008.

ADDRESSES: Proposals shall be submitted electronically to http://www.grants.gov. Grants.Gov allows organizations to find and apply for funding opportunities electronically from all Federal grant-making agencies. Grants.Gov is the single access point for over 1,000 cooperative agreement programs offered by the 26 Federal grant-making agencies.

Proposals can also be submitted in hard copy accompanied by an electronic version to Pamela Brown, 1200 New Jersey Avenue, E43-465, Washington, DC 20590, or by electronic mail to Pamela.brown@dot.gov.

FOR FURTHER PROGRAM INFORMATION CONTACT: Pamela Brown at 202-493-2503; FAX: 202-366-7951; or via e-mail: pamela.brown@dot.gov.

I. Funding Opportunity Description

FTA is soliciting proposals for a cooperative agreement (or agreements) to implement the National RTAP. FTA will award one or more five-year cooperative agreements, which will be funded annually at $1.2 to $1.5 million (subject to the availability of appropriations). The purpose of this cooperative agreement is to develop and implement an RTAP. The major goal of the National RTAP is to assist States in the service provision of rural public transportation at both the State and local levels. RTAP funds may be used for training, technical assistance, research, and related support services. The National RTAP includes the following tasks: (1) To promote the delivery of safe and effective public transportation in non-urbanized areas; (2) To make more effective use of public and private resources in the provision of rural public transportation; (3) To support the coordination of public and human service transportation; (4) To foster the development of State and local capacity for addressing the training and technical assistance needs of the rural transportation community; (5) To facilitate peer-to-peer self-help through networks of transit professionals; (6) To improve the quality of information and technical assistance available through the development of training and technical assistance resource materials; (7) To disseminate information and resources efficiently to those who need them; (8) To conduct research and analysis about rural transit; (9) Maintain Mechanism for User Input and Feedback; and (10) Project Management and Administration.

The National RTAP will pursue the following strategies in its development and delivery of technical assistance services targeted to enhance rural public transportation: building partnerships, leadership development, knowledge management and customer-focused service in order to facilitate capacity building at the State and local levels, and the provision of technical expertise for research and analysis, either through staff resources or contracts. RTAP personnel will engage early and often with Technical Assistance (TA) recipients to ensure knowledge is transferred and relationships are developed. The RTAP will develop an information and referral system as a key focal point to disseminate models, and identify useful practices for innovations in rural public transportation and systems. The RTAP also will build coordination with and referrals to other TA centers focused in targeted areas related to rural public transportation to build capacity (for example, the National Resource Center for Coordination, the National Senior Transportation Center, JOBLINKS, and Project ACTION).

The National RTAP program will create and maintain collaborative public and private partnerships at all levels—local, tribal, State and Federal, including a broad range of stakeholders interested in facilitating rural public transportation access to employment, health, education, recreation and other community services for elderly individuals, individuals with disabilities, low income individuals and the general public in rural and small urban areas.

II. Background

From Fiscal Years (FY) 1988-2005, the RTAP was funded at approximately $5 million each FY, with approximately $500-750,000 each year devoted to a National project. RTAP consists of two components, the State program and the national program. The RTAP program is currently funded as a two percent takedown from the Section 5311 program. 85 percent of the takedown is used to fund the State RTAP program and the remaining 15 percent is for the National RTAP program.

FTA implements the national program through a cooperative agreement with a private nonprofit organization demonstrating a commitment to serving rural, small urban, and specialized transit providers. The nonprofit organization which FTA selects through a competitive process may receive assistance under cooperative agreements for up to five consecutive years before FTA conducts a new competitive selection.

RTAP is FTA's major funding mechanism for rural training, technical assistance and research initiatives. The objectives of the National RTAP are:

1. To promote the delivery of safe and effective public transportation in nonurbanized areas;

2. To make more effective use of public and private resources in the provision of rural transportation;

3. To support the coordination of public and human service transportation;

4. To foster the development of state and local capacity for addressing the training and technical assistance needs of the rural transportation community;

5. To facilitate peer-to-peer self help through networks of transit professionals;

6. To improve the quality of information and technical assistance available through the development of training and technical assistance resource materials;

7. To disseminate information and resources efficiently to those who need them; and

8. To conduct research, including analysis of data reported to FTA's National Transit Database (NTD), and to maintain current profiles of the characteristics of rural transit and the inventory of providers of rural and specialized transportation providers.

III. Objective

The objective of this project is to provide technical support through a cooperative agreement with a nonprofit entity currently demonstrating an independent commitment to serving the ultimate beneficiaries of FTA's National RTAP.

IV. Scope of Work

The recipient will provide technical assistance that will be useful to beneficiaries of the FTA National RTAP. Under this arrangement:

• The recipient will have the lead responsibility for overall management of the National RTAP, which includes: planning and preparing the annual work program; supporting and assisting the entities administering the state RTAP activities; developing and promoting training materials; conducting outreach and coordination with other organizations involved in rural public transportation; convening national and regional meetings on rural topics; and monitoring the success of the RTAP programs through user input and feedback.

• The recipient will also have the lead responsibility for operation of the RTAP Rural Resource Center, which shall include: providing toll-free telephone assistance; disseminating information electronically; distributing resource materials; collecting and maintaining available information resources; regularly updating a catalog of relevant training materials; developing timely information briefs; performing research as required; and maintaining information about the characteristics and status of rural transit and inventory of specialized transportation providers.

Task I: Project Planning and Coordination

The recipient will assume primary responsibility for administration and management of the National RTAP. Subtasks include:

• Submitting to the FTA project manager, prior to the award of the cooperative agreement each year, for approval;

(1) A Work Plan, which specifies how the stated objectives of project will be met;

(2) a Management Plan, which sets forth how the project will be managed and who will be the key personnel involved; and

(3) a Budget Plan, which specifies what will be the costs associated with the project.

• Submitting a progress report after each project quarter, and a final project report at the end of the project year;

• Ensuring the integration of all projects tasks;

• Coordinating and implementing a comprehensive set of activities designed to encourage use of National RTAP program products and services. Special goals will be the preparation on a regular basis of “press release” type articles that can be used by state and other national organizations to promote National RTAP products, and maintenance of appropriate promotional materials that can be distributed at state and national conferences.

Task II: Development and Promotion of Training Materials

The recipient will develop and disseminate training materials designed for use by rural transit providers. Subtasks include:

• Developing, field testing, and disseminating to the state RTAP's training packages or courses designed for use by rural transit providers. Selection of topics shall be guided by and consistent with the identified training needs of rural transit providers and the state RTAP activities. Prior to beginning developmental work on any training package, the recipient shall submit to FTA for its approval a plan for the development of the package. The plan shall include an overview for each of the component parts to be produced as part of training package, a time line for development and final production and a budget. This task may include development of courses for delivery by the National Transit Institute (NTI) or other organizations (e.g. Tribal Technical Assistance Program (TTAP)).

• Identifying and reviewing training materials that are being developed outside of the National RTAP, especially by states under the RTAP state program and by private vendors. Maintain information on new and currently available materials in a regularly updated catalogue of existing training materials, made available to state DOTs and others through appropriate means, including electronic dissemination.

• Promoting the RTAP training packages. Activities include preparing articles for use in state and national publications to announce the package for distribution through the RTAP state program and at national, regional and state meetings; and conducting demonstration workshops at selected national and regional meetings to build the capacity of state and system level personnel to facilitate the sound delivery of the training packages.

Task III: Support for State Administration of RTAP

The recipient will establish a liaison relationship with the state RTAP managers to ensure that the products developed and activities undertaken through the National RTAP are useful to and supportive of the state programs, promote information exchange at all levels, and encourage coordination of state efforts. Specific subtasks include:

• Provide a forum for networking with state RTAP managers while establishing communication for information dissemination (i.e., newsletter or bulletin). The recipient will report on national and state program accomplishments and activities.

• Promoting and participating in three or four RTAP regional meetings annually, to share information about RTAP products and other relevant FTA initiatives.

• Assisting state DOTs to evaluate the benefits of their state RTAP activities. This effort will provide information to FTA on how well the RTAP program is working to meet the program goals and objectives.

• Providing individualized technical assistance to state RTAP managers as requested by the state or by FTA.

In undertaking these subtasks, the recipient will work to assure that activities are complementary and not duplicative.

Task IV: Outreach and Coordination With other Organizations Involved with Rural Transit

The recipient will coordinate with other organizations involved with rural public transportation and related interests to avoid duplication of efforts and to draw on these organizations' networks to promote National RTAP products and services. Specific subtasks that will be undertaken by the recipient will include:

• Participating in conferences, workshops, and meetings of other national and regional organizations both to learn about their activities and to promote FTA RTAP.

• Staying informed about other national rural transportation assistance activities within and outside FTA.

• Participating in the Transportation Research Board (TRB) biennial National Conference on Rural Public and Intercity Bus Transportation.

• Coordinating activities with the FHWA Local Area Technical Assistance Program (LTAP and TTAP).

• Coordinating with other FTA-funded technical assistance centers, and participating in the National Consortium on Human Service Coordination (National Consortium) and the National Resource Center for Human Service Transportation Coordination (NRC).

The recipient will consult with the FTA project manager as to the appropriate form of support for each of these activities.

Task V: RTAP Rural Resource Center

The recipient will maintain a national clearinghouse for rural public transportation technology sharing and information dissemination, a central collection of products and services that are useful to rural transit professionals. The recipient will promote and monitor usage of the RTAP rural resource center. Specific activities under this task include:

• Collecting and maintaining relevant information resources, training and technical assistance materials, and contacts and referrals, and developing expertise about issues of concern to the rural transit community;

• Operating a telephone hotline information service, which provides timely response to questions and requests for information;

• Developing and providing electronic access to information resources maintained at the center;

• Disseminating information on new rural public transportation technical assistance and training materials and updated databases;

• Collecting and disseminating materials created by the state RTAP's;

• Monitoring rural transit-related legislation and regulations and preparing timely summaries for dissemination;

• Researching and preparing information and technical assistance briefs to fill identified gaps in available information resources in response to time-sensitive issues and areas of common interest;

• Promoting and monitoring the effectiveness of the resource center's products and services through regular reports of center use statistics; promotion in publications widely read by the target audience; participation in national, regional and state meetings; dissemination of materials about the center; and telephone surveys of operators or other feedback mechanisms such as postage-paid comment cards included with center mailings.

Task VI: Rural Transit Database

The recipient is responsible for maintaining the database of FTA-funded rural and specialized systems. Subtasks include:

• Maintaining an accurate and up-to-date inventory of subrecipients under FTA's Elderly and Persons with Disabilities Program (Section 5310) in coordination with the National Senior Transportation Center.

• Preparing profiles and analyses based upon the data submitted to the FTA rural NTD, and creating resource materials based on the data.

Task VII: Peer-to-Peer Networking

The recipient will develop and implement a national self-help technical assistance network that facilitates the exchange of technologies and techniques among rural transit operators on a peer-to-peer basis. Specific subtasks include:

• Identifying expert peers in areas of current interest on a continuing basis;

• Setting up technical assistance workshops to utilize a peer-to-peer network efficiently, in coordination with regularly scheduled meetings of national, state, and regional groups;

• Matching peers with those needing assistance on a one-to-one basis;

• Encouraging and facilitating peer-to-peer exchange and providing support services to promote peer assistance.

Task VIII: Research and Technical Support

The recipient will provide a research and technical support capacity to FTA to address issues of immediate concern to the rural transit programs. Examples of specific subtasks to be performed at the request of the FTA project manager could include, but are not limited to:

• Preparing issue papers or reports in response to FTA requests;

• Convening a focus group or small meeting on a specific topic;

• Compiling data.

Task IX: Maintain Mechanism for User Input and Feedback

The recipient will maintain a mechanism for user input and feedback such as the program review board. Historically, the review board has functioned as the mechanism for providing the national program with guidance on priority needs in the areas of training materials development, information dissemination, and technical assistance. If project funding is insufficient to support the review board, an alternative mechanism should be developed. Specific subtasks include:

• Convening no more than two (2) official meetings of the board each year of the project. One official meeting must be held in Washington, DC. The second meeting may be held at the TRB Biennial National Conference on Rural Public and Intercity Bus Transportation or another national meeting. All official review board meetings will be approved by the FTA project manager. The board, or alternative mechanism, will function to:

• Provide the national program with guidance on priority needs in the areas of training material development, information dissemination, and technical assistance.

• Oversee the quality of national program products and services.

• Promote the national program to States and operators.

The following principles have been developed to guide the review board:

• The review board will be limited to 15 or fewer members—roughly half transit providers and half State DOT representatives. In the event that a board member is no longer employed by a nonurbanized transit provider or State transit agency (including Tribal rural operators), there shall be an automatic vacancy for that individual's position on the board.

• Review board membership shall be of limited duration and regular rotations shall occur, so that continuity is maintained.

• The recipient shall conduct an appropriate orientation for new board members, including an introduction to the project's history, goals and objectives and current status, and provide relevant materials including summaries of past board-meetings, information on board-member roles and responsibilities, and other relevant information.

Task X. Project Management and Administration

a. The recipient shall meet with the Project Officer and task order monitor within ten (10) working days after issuance of the task order to discuss the objectives of the cooperative agreement and any related projects.

b. The Project Coordinator of the RTAP shall submit quarterly progress reports to the FTA project manager. The reports shall include the following items and provide information relevant for the particular period:

Sample Format for Progress Report

Goal:

Objective:

• Objective's Total Budget

• Expenditures this quarter, this objective

• Total expenditures, this objective. (The expenditures reported on the account, shall match the progress of the project.)

Status as of :

(end date of reporting period)

Activity Planned (Relative to Project Task Elements, Indicators and Milestone Activities):

Actual Activity (Relative to Project Task Elements, Indicators and Milestone Activities):

Difficulties Encountered: (as applicable, should include information on specific reasons why goals and objectives or milestones were not met, and analysis and explanations of costs overruns)

• Goal/Objective or Milestone Not Met:

• Problem(s):

• Resolution/corrective action plan and schedule:

Activity anticipated for next reporting period:

| Budget | Expended Q1 | Expended Q2 | Expended Q3 | Expended Q4 | Balance
Task 1 |  |  |  |  |  |
Task 2 |  |  |  |  |  |
Task 3 |  |  |  |  |  |
Task 4 |  |  |  |  |  |
Task 5 |  |  |  |  |  |
Task 6 |  |  |  |  |  |
Staff Travel |  |  |  |  |  |
Consultant Services—Ambassadors |  |  |  |  |  |
Salaries, fringe, indirect, direct administrative costs |  |  |  |  |  |
Total |  |  |  |  |  |

Contact Information: All documentation for the project, financial and administrative, shall be forwarded to: Pamela Brown, Project Manager, Federal Transit Administration, 1200 New Jersey Ave., SE, 4th Floor, Room E43-465, Washington, DC 20590, 202-493-2503, Pamela.Brown@dot.gov.

V. Evaluation Criteria

The following evaluation criteria will be used to rate all proposals responding to this announcement, listed in descending order of relative importance:

1. Technical approach.

2. Qualifications and experience of the organization and its personnel.

3. Program management capability.

4. Application review information.

Award of this cooperative agreement will be determined by the proposal that offers to provide the greatest value to the beneficiaries of the FTA RTAP in terms of performance rather than the proposal offering the lowest price. Applicants may propose to provide some or all of the services listed in the tasks described in the Scope of Work above. FTA reserves the right to award one or more cooperative agreements.

1. Technical Approach

The overall technical approach to the requirements of the statement of work will be examined. Particular attention will be given to the proposer's understanding of the objectives of the National RTAP and how those objectives will be met by their proposal. The proposal should respond to the specific requirements of the statement of work and clearly explain how those requirements will be accomplished.

2. Qualifications and Experience of the Organization and Its Personnel

The nonprofit organization must demonstrate that it has a broad based constituency and purpose relevant to rural public transportation interests. The individual qualifications and work experience of proposed project personnel will be carefully examined. The organization must show that it will be able to assign employees with a variety of skills and knowledge which include: Familiarity with rural operational issues facing both public and private transportation operators; experience in dealing with innovative solutions to rural transportation needs; knowledge of current Federal policy initiatives; demonstrated ability to develop and implement a broad program of rural technical assistance; knowledge of information dissemination techniques and training and technical assistance methodology; and organizational skills to coordinate the diverse individuals and organizations involved in such a program.

FTA is particularly interested in proposals for this cooperative agreement from national non-profit organizations with demonstrated capacity in State and community transportation and rural public transportation services. A strong applicant has the following characteristics:

• Demonstrated track record for managing large scale projects.

• Exhibits strong analytical skills.

• Performance based organization with an entrepreneurial approach to problem solving.

• Ability to breathe new life into a program by creating something new or revamping an existing structure.

3. Program Management Capability

The proposal should indicate a strong capability for managing an active and varied rural technical assistance program. Experience in working with rural transportation professionals from local, city, county, state, and Federal government, public and private operators and volunteer organizations is an important requirement. The organization should also demonstrate coalition building and organizational development skills. In addition, the proposal should indicate experience in managing and monitoring subrecipients and contractors, if any are included in the proposal. The recipient selected must be an eligible recipient of a cooperative agreement with FTA and be able to sign the required certifications and assurances and cooperative agreement.

4. Application Review Information

An FTA review panel will be convened to review each proposal. Project proposals will be evaluated based on the following criteria and scoring system:

1. Staff qualifications, which includes experience in delivering technical assistance and training, knowledge of human service transportation, demonstrated process skills in assessment, strategic planning, facilitation, and other key areas associated with identified tasks. The entity shall also address a plan for knowledge retention. (15%).

2. Capacity of the organization, which includes clearinghouse functions, Web development and maintenance, technical assistance, training, long distance and on-site intervention strategies, and other, identified tasks. (15%).

3. Understanding and reasonability of proposed goals, objectives, methodologies, activities, timelines, deliverables, and budget. (40%).

4. Plan to collaborate with stakeholders and establish effective partnerships to implement tasks. (20%).

5. Plan for evaluation and data collection. (10%).

6. FTA may elect to meet in person two or three of the most qualified applicants.

This meeting will be held at the Department of Transportation, in Washington, DC. The applicants will be notified of a date and time during which they will be asked to present their proposal to the FTA review panel. If an entity proposes to perform an individual task or tasks less than the full project, the proposal will be evaluated accordingly on its merits. If selected, the proposer may be asked to form a consortium with the applicant chosen to manage the larger project

VI. Proposal Content

Proposals shall be submitted in double-spaced format using Times New Roman 12 point font. The application must contain the following components:

1. Cover sheet (1 page): Includes entity submitting proposal, principal investigator, title, and contact information (e.g., address, phone, fax, and E-mail). Name and contact information for the entity, key point of contact for all cooperative activities (if different from principle investigators).

2. Abstract (2 pages): Abstract shall include background, purpose, methodology, intended outcomes, and plan for evaluation.

3. Detailed budget proposal and budget narrative.

4. Project narrative (not to exceed 75 pages): Project narrative shall include the following information:

a. Staff qualifications, include experience in providing technical assistance and implementing the other tasks outlined in the solicitation. The proposal shall also include the proposed staff members' knowledge of issues related to human service transportation. One page biographical sketches for staff members shall be included in the appendices section of the proposal;

b. Existing and future capacity of organization to address the issues outlined in the proposal and ability to implement tasks I-X outlined under Section IV. (Scope of Work) in this solicitation;

c. Methodology for addressing tasks I-X outlined under Section IV. in this solicitation. The proposal shall also include objectives, activities, deliverables, milestones, timeline and intended outcomes for achieving the goals outlined in the scope for the first year;

d. Plan to work with stakeholders and build partnerships at the national, State, and local levels;

5. Project Management Plan that includes well defined objectives, tasks, activities, timelines, deliverables, indicators, and outcomes.

6. Plan for evaluation of RTAP activities and data collection.

7. Supplemental materials and letters of support can be included in an appendices section that is beyond the 75 page limit. In addition to the full proposal, entities have the option to submit supplemental material such as: Brochures, publications, products, etc. These materials shall be delivered to Pamela Brown, Federal Transit Administration, 1200 New Jersey Avenue, SE., 4th Floor—East Building, Room E43-465, Washington, DC 20590.

VII. Instructions

1. Submit five copies of proposal to the following address: Federal Transit Administration, TPM-5, Office of Program Management, United We Ride Office, 1200 New Jersey Avenue, SE., 4th Floor—East Building, Room E43-465, Washington, DC 20590, Attn: Pamela Brown; or apply through Grants.Gov.

2. Proposals must be received no later than 5:30 p.m., EDT, April 28, 2008

3. Technical questions and requests for clarifications may be addressed to Lorna R. Wilson at 202-366-2053.

4. The recipient will be selected and the candidates notified approximately two months after the application deadline.

5. The recipient selected will be asked to submit an application for a cooperative agreement by July 1, 2008, with funding of $1,212,000 for the first year anticipated to be awarded before October 30, 2008.

VIII. Award Information

FTA reserves the right to fund one or more cooperative agreements for a five year award. Year one of the cooperative agreement is for $1.212 million. The anticipated notification date is the Spring of 2008, with an anticipated starting date for the successful applicant of July, 2008. Subsequent annual funding will be based on annual appropriations. FTA recipients with existing FTA projects are eligible to complete for this cooperative agreement.

The FTA will participate in activities by attending review meetings, commenting on technical reports, maintaining frequent contact with the project manager, approving key decisions/activities and negotiating any redirecting activities if needed.

IX. Award Administration Information

The anticipated notification date for the award of this cooperative agreement is Spring of 2008, with an anticipated start date for the successful applicant by late Spring. FTA will notify the successful entity. Following receipt of the FTA Administrator's notification letter, the successful entity will be required to submit its proposal through the FTA Transportation Electronic Award Management (TEAM) system Web site. FTA will manage the cooperative agreement through the TEAM system Web site. Before FTA may award Federal financial assistance through a Federal cooperative agreement, the entity must submit all certifications and assurances pertaining to itself and its project as required by Federal laws and regulations. Since Federal FY 1995, FTA has been consolidating the various certifications and assurances that may be required of its awardees and the projects into a single document published in the Federal Register. The FY 2008 Annual List of Certifications and Assurances for FTA Cooperative Agreements and Cooperative Agreements and Guidelines will be published in the Federal Register and posted on the FTA Web site at http://www.fta.dot.gov.

Issued in Washington, DC, this 21st day of February, 2008.
James S. Simpson,
Administrator.

[FR Doc. E8-3604 Filed 2-25-08; 8:45 am]

BILLING CODE 4910-57-P